DEPARTMENT OF COMMERCE

National Oceanic and Atmospheric Administration

RIN 0648-XH76

Public Meetings on the Makah Tribe's Request To Hunt Eastern North Pacific Gray Whales

AGENCY: National Marine Fisheries Service (NMFS), National Oceanic and Atmospheric Administration (NOAA), Commerce.

ACTION: Notice.

SUMMARY: We are issuing this notice to advise the public that NMFS has prepared a Draft Environmental Impact Statement (DEIS) in response to the Makah Tribe's request that NMFS waive the take moratorium of the Marine Mammal Protection Act (MMPA) to allow for treaty right hunting of eastern North Pacific (ENP) gray whales in usual and accustomed grounds off the coast of Washington State. We are requesting written comments on the DEIS and announcing the dates and locations of three public meetings regarding the DEIS.

DATES: Three public meetings will be held as follows:

(1) May 28, 2008, Port Angeles, Washington;

(2) June 2, 2008, Seattle, Washington; and

(3) June 5, 2008, Silver Spring, Maryland.

Specific times and locations for each of these meetings is included in SUPPLEMENTARY INFORMATION.

Written or electronic comments on the DEIS from all interested parties are encouraged and must be received no later than 5 p.m. PDT on July 8, 2008. All comments and material received, including names and addresses, will become part of the administrative record and may be released to the public.

ADDRESSES: All comments concerning the DEIS should be addressed to: Steve Stone, NMFS Northwest Region, 1201 NE Lloyd Blvd., Suite 1100, Portland, OR 97232. Comments may also be submitted via fax (503) 230-5441, Attn: 2008 Makah DEIS, or by e-mail to MakahDEIS.nwr@noaa.gov with a subject line containing the document identifier: 2008 Makah DEIS.

The DEIS is available in electronic form on the Internet at the following address: http://www.nwr.noaa.gov/Marine-Mammals/Whales-Dolphins-Porpoise/Gray-Whales/. The DEIS also may be viewed at various libraries identified at this Internet address or at the following NMFS offices:

(1) NMFS Protected Resources Division, 1201 NE Lloyd Blvd., Suite 1100, Portland, OR 97232. Contact Steve Stone at 503-231-2317; and

(2) NMFS, Protected Resources Division, 7600 Sand Point Way, NE, Building 1, Seattle, WA 98115-6349. Contact Josephine Evans at 206-526-6150.

In addition, copies of the DEIS are available on CD by contacting Steve Stone (see FOR FURTHER INFORMATION CONTACT).

FOR FURTHER INFORMATION CONTACT: Steve Stone, NMFS Northwest Region, (503) 231-2317, or Tom Eagle, Office of Protected Resources, (301) 713-2322, ext. 105.

SUPPLEMENTARY INFORMATION:

Meeting Information

Dates, times, and addresses for the public meetings are as follows:

(1) May 28, 2008, 6:30 p.m.-9:30 p.m., Vern Burton Memorial Community Center, 308 East 4th Street, Port Angeles, WA;

(2) June 2, 2008, 6:30 p.m.-9:30 p.m., Lake Union Park Armory-Great Hall, Seattle, 860 Terry Avenue North, Washington; and

(3) June 5, 2008, 10 a.m.-1 p.m., NOAA Auditorium, 1301 East-West Highway, Silver Spring, Maryland.

Background

On May 9, 2008, the U.S. Environmental Protection Agency announced the availability of NMFS' DEIS concerning the Makah Indian Tribe's February 2005 request to resume limited hunting of ENP gray whales in the coastal portion of the Tribe's usual and accustomed fishing grounds, off the coast of Washington State, for ceremonial and subsistence purposes. The Tribe's proposed action stems from the 1855 Treaty of Neah Bay, which expressly secures the Makah Tribe's right to hunt whales. To exercise that right, the Tribe is seeking authorization from NMFS under the MMPA and the Whaling Convention Act. The release of this DEIS is one of several steps NMFS will undertake to evaluate the Tribe's request.

The DEIS, prepared pursuant to the National Environmental Policy Act, considers various alternatives to the Tribe's proposed action. To develop the full range of action alternatives—five in total—we considered the principal components associated with a hunt, including: the time when whale hunting would occur; the area where whale hunting would occur; the annual and five-year limits on the number of whales harvested, struck, and struck and lost; cessation of whale hunting if a predetermined number of identified whales (i.e., included in a photographic catalog of whales from the Pacific Coast Feeding Aggregation area) were harvested; and the method of hunting. We developed these alternatives with input from NMFS staff, the applicant, the cooperating agency (i.e., Bureau of Indian Affairs), and oral and written comments from the public. This DEIS addresses a number of resources identified for review during both internal and public scoping, including: water quality, marine habitat and species, ENP gray whales, other wildlife species, economics, environmental justice, social environment, cultural resources, ceremonial and subsistence resources, noise, aesthetics, transportation, public services, public safety, and human health.

The DEIS provides an important opportunity for the public to formally comment on the Tribe's proposal and the various alternatives. These comments, in conjunction with considerations described in the DEIS, will provide key information to assist NMFS with its final decision on the Tribe's request.

Access to Government Building

For access to a Federal government building, the Department of Commerce Office of Security at NOAA has advised that all attendees must register for the meeting and must have a valid government-issued identification (e.g, driver's license or passport) with a photograph. Therefore, prospective attendees for the public meeting in the NOAA Auditorium, Silver Spring, MD, should submit their first and last names and affiliation, if appropriate, by telephone or e-mail to Tom Eagle (See FOR FURTHER INFORMATION CONTACT) by 4 p.m. EDT on June 2, 2008.

Reasonable Accommodation

Persons needing reasonable accommodations to attend and participate in the public meetings should contact Steve Stone (see FOR FURTHER INFORMATION CONTACT). To allow sufficient time to process requests, please call at least 5 business days prior to the relevant meeting(s).

Dated: May 5, 2008.
Barbara A. Schroeder,
Acting Chief, Marine Mammal and Sea Turtle Conservation Division, National Marine Fisheries Service.

[FR Doc. E8-10377 Filed 5-8-08; 8:45 am]

BILLING CODE 3510-22-S